DEPARTMENT OF AGRICULTURE

Commodity Credit Corporation

7 CFR parts 1412 and 1421

RIN 0560-AG71 and 0560-AG72

Direct and Counter Cyclical Program; Marketing Assistance Loans and Loan Deficiency Payments for Peanuts, Pulse Crops, Wheat, Feed Grains, Soybeans and Other Oilseeds; Correction

AGENCIES: Commodity Credit Corporation, USDA.

ACTION: Final rule (correcting amendments).

SUMMARY: This document also corrects the regulations published by the Commodity Credit Corporation (CCC) entitled “Direct and Counter Cyclical Program” and “Marketing Assistance Loans and Loan Deficiency Payments.” Corrections are necessary for provisions that conflict with statute or other program requirements and are intended to ensure that Agency regulations are properly written and implemented. These changes will apply retroactively to actions taken under the subject regulations since their effective date.

DATES: The revisions to part 1412 are effective as of October 16, 2002; the revisions to part 1421 are effective as of October 8, 2002.

FOR FURTHER INFORMATION CONTACT: Sharon Biastock at 720-6336, or Kimberly Graham, at 202-720-9154.

SUPPLEMENTARY INFORMATION:

Discussion of Corrections

(1) Interstate transfer of peanut acreage. This document also corrects 7 CFR part 1412, published in the Federal Register on October 21, 2002, 67 FR 64751, by authority of the Farm Security and Rural Investment Act of 2002 (“2002 Act”). Part 1412 is entitled “Direct and Counter-Cyclical Program and Peanut Quota Buyout Program,” and provides for direct and counter-cyclical payments for the crop years 2002 through 2007 for a number of crops to provide income support to producers of eligible commodities. The error is in the introductory language in section 1412.703(b) of part 1412, which states, “Notwithstanding paragraph (a) of this section, the average acreage determined under § 1412.701 for a farm may be assigned to a farm in a contiguous county only if either of the following apply:” This correction substitutes the word “state” for “county” in that sentence, as the provisions are directed to special allowance for interstate transfers for peanuts as reflected elsewhere and in the authorizing statute.

(2) Penalties for erroneous certification. This document corrects the regulations for CCC Marketing Assistance Loans and Loan Deficiency Payments for Peanuts, Pulse Crops, Wheat, Feed Grains, Soybeans and Other Oilseeds at 7 CFR Part 1421. The current provisions of Part 1421 were published in the Federal Register on Friday, October 11, 2002 (67 FR 63511). Marketing assistance loans and loan deficiency payments are authorized by title I of the 2002 Act.

This document corrects sections 1421.109 of 7 CFR part 1421 relating to a producer's violation of a loan agreement, and the resulting administrative remedies. Specifically, § 1421.109(e) is corrected so that the amount due for a violation of this provision is based only on the quantity of the commodity “removed or disposed of” and not the “quantity incorrectly certified or the loan quantity removed or disposed.” As to the reference to “quantity incorrectly certified” there can never be less than a full loan repayment as is clear from the circumstances and other provisions in the regulations. Accordingly, this section is corrected by removing that reference. Also, a clarifying comma is added after the word “interest” in § 1421.109(e)(1)(i).

Section 1421.109 is also corrected in paragraph (g) so that, “The county committee may waive the liquidated damages if it determines that the violation was inadvertent, accidental, or unintentional.” instead of “* * * and unintentional.” The word “or” was used here instead of “and” to comport fully with the original and continuing intent of this provision.

These changes are to clarify and correct regulations, and delaying their publication to request public comment is contrary to the public interest. Further, section 1601 of the 2002 Act exempts these changes from notice and comment rulemaking. So that they may apply equally with existing regulations, these changes are effective as of the original filing of the rules implementing the 2002 Act.

List of Subjects

7 CFR Part 1412

Direct and counter-cyclical payments, Grains, Peanuts, Oilseeds, Reporting and record keeping requirements.

7 CFR Part 1421

Agricultural commodities, Feed grains, Grains, Loan programs—agriculture, Oilseeds, Price support programs.

Accordingly, 7 CFR chapter XIV is corrected as follows:

PART 1412—DIRECT AND COUNTER-CYCLICAL PROGRAM AND PEANUT QUOTA BUYOUT PROGRAM

1. The authority citation for part 1412 continues to read as follows:

Authority: 7 U.S.C. 7911-7918, 7951-7956; 15 U.S.C. 714b and 714c.

Subpart G—Establishment and Assignment of Peanut Base Acres and Yields for a Farm

2. Revise § 1412.703(b) to read as follows:

§ 1412.703 Assignment of average peanut yields and average peanut acreages to farms.

* * * * *

(b) Notwithstanding paragraph (a) of this section, the average acreage determined under § 1412.701 for a farm may be assigned to a farm in a contiguous state only if either of the following apply:

(1) The historic peanut producer making the assignment produced peanuts in that State during at least one of the 1998 through 2001 crop years; or

(2) As of March 31, 2003, the historic peanut producer is a producer on a farm in that State.

* * * * *

PART 1421—GRAINS AND SIMILARLY HANDLED COMMODITIES—MARKETING ASSISTANCE LOANS AND LOAN DEFICIENCY PAYMENTS FOR THE 2002 THROUGH 2007 CROP YEARS

3. The authority citation for part 1421 continues to read as follows:

Authority: 7 U.S.C. 7231-7237 and 7931 et seq.; 15 U.S.C. 714b, 714c.

Subpart B—Marketing Assistance Loans

4. In § 1421.109, paragraphs (e)(1) and (g) are corrected to read as follows:

§ 1421.109 Personal liability of the producer.

* * * * *

(e) For violations and the liquidated damages under paragraph (d)(1) of this section, the county committee shall:

(1) Require repayment of the marketing assistance loan quantity removed or disposed of at the lesser of:

(i) The applicable loan principal, and charges, plus interest, or:

(ii) The announced alternative repayment rate in effect on date the violation occurred, plus 15 percent of the loan rate, or as otherwise determined by the Deputy Administrator, and

* * * * *

(g) The county committee may waive imposing liquidated damages if it determines that the violation was inadvertent, accidental, or unintentional.

* * * * *

Signed in Washington, DC, on November 26, 2003.
James R. Little,
Executive Vice President, Commodity Credit Corporation.

[FR Doc. 03-30198 Filed 12-4-03; 8:45 am]

BILLING CODE 3410-05-P